DEPARTMENT OF HEALTH AND HUMAN SERVICES

Administration for Children and Families

Proposed Information Collection Activity; Judicial, Court, and Attorney Measures of Performance (New Collection)

AGENCY: Children's Bureau; Administration for Children and Families; HHS.

ACTION: Request for public comment.

SUMMARY: The Children's Bureau, Administration for Children and Families (ACF), U.S. Department of Health and Human Services (HHS), is proposing to collect data for a new descriptive study, Judicial, Court, and Attorney Measures of Performance (JCAMP).

DATES: Comments due within 60 days of publication. In compliance with the Paperwork Reduction Act of 1995, ACF is soliciting public comment on the specific aspects of the information collection described in this notice.

ADDRESSES: You can obtain copies of the proposed collection of information and submit comments by emailing infocollection@acf.hhs.gov. Identify all requests by the title of the information collection.

SUPPLEMENTARY INFORMATION: Description: This study will collect information from Court Improvement Program (CIP) staff to (1) understand data capacity and current use of performance measures and (2) gather feedback from the performance measure pilot process. This will be accomplished using two instruments:

JCAMP CIP Data Capacity Survey

The survey asks CIPs about their current capacity to collect specific data elements from the following six categories of measurement: (1) Legal and judicial context (e.g., court docketing), (2) Practices (e.g., attorney pre-petition legal practice), (3) Short-term outcomes that happen during hearings (e.g., discussion of key issues), (4) Intermediate outcomes that happen during the case (e.g., judicial continuity), (5) Long-term outcomes that happen after case closure (e.g., child safety), and (6) Cross-cutting themes (e.g., equity). The survey asks about capacity broadly and then specifically for a series of subcategories.

JCAMP Pilot Site Debrief Form

The JCAMP Pilot Site Debrief Form is a survey developed to be administered to CIP staff who have assisted with piloting of the performance measures. The survey asks participants about the challenges and successes in collecting pilot data for the measures, their confidence in collecting the data going forward, and suggestions for improving future efforts.

Respondents: Respondents include CIP Administrators and staff.

Annual Burden Estimates
Instrument | Total number of respondents | Total number of responses per respondent | Average burden hours per response | Total burden hours | Annual burden hours
JCAMP CIP Data Capacity Survey | 106 | 1 | .83 | 264 | 88
JCAMP Pilot Debrief Form | 24 | 1 | .25 | 18 | 6

Estimated Total Annual Burden Hours: 94.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 5106, Public Law 111-320, the Child Abuse Prevention and Treatment Act Reauthorization Act of 2010, and titles IV-B and IV-E of the Social Security Act.

Mary B. Jones,
ACF/OPRE Certifying Officer.

[FR Doc. 2022-00238 Filed 1-10-22; 8:45 am]

BILLING CODE 4184-29-P